DEPARTMENT OF HEALTH AND HUMAN SERVICES

Administration for Community Living

Agency Information Collection Activities; Proposed Collection; Public Comment Request; Inventory of Adult Protective Services Practices and Service Innovations

AGENCY: Administration for Community Living, HHS.

ACTION: Notice

SUMMARY: The Administration for Community Living (ACL) is announcing an opportunity for the public to comment on the proposed collection of certain information listed above. Under the Paperwork Reduction Act of 1995 (the PRA), Federal agencies are required to publish a notice in the Federal Register concerning each proposed collection of information, including each proposed extension of an existing collection of information, and to allow 60 days for public comment in response to the notice. This notice solicits comments on the information collection requirements relating to a new data collection (ICR New) effort titled “Inventory of Adult Protective Services Practices and Service Innovations.”

DATES: Submit electronic comments on the collection of information by 11:59 p.m. (EST) or written comments postmarked by February 25, 2019.

ADDRESSES: Submit electronic comments on the collection of information to Stephanie Whittier Eliason at stephanie.whittiereliason@acl.hhs.gov. Submit written comments on the collection of information to: Administration for Community Living, Attention: Stephanie Whittier Eliason, 330 C St., SW, Washington, DC 20201.

FOR FURTHER INFORMATION CONTACT: Stephanie Whittier Eliason at 202-795-7467 or stephanie.whittiereliason@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60- day notice in the Federal Register concerning each proposed collection of information, including each proposed extension of an existing collection of information, before submitting the collection to OMB for approval. To comply with this requirement, ACL is publishing a notice of the proposed collection of information set forth in this document.

Authority:

The Elder Justice Act of 2009 requires the Secretary of the U.S. Department of Health and Human Services to carry out a number of activities related to adult protective services (APS) (42 U.S.C. 1397m-1), including developing and disseminating information on APS best practices and conducting research related to the provision of APS. Furthermore, the Elder Justice Coordinating Council included as its third recommendation for increasing federal involvement in addressing elder abuse, neglect, and exploitation: “develop a national APS system based upon standardized data collection and a core set of service provision standards and best practices.”

Background

The Administration for Community Living (ACL) in the U.S. Department of Health and Human Services (HHS) plans to initiate an Inventory of Adult Protective Services Practices and Service Innovations (APS Practice Survey) during January and February of 2019. Under a contract with ACL, the National Adult Protective Services Technical Assistance Resource Center (APS TARC) is conducting a national program evaluation of APS programs. As part of this evaluation, the APS Practice Survey will identify barriers to meeting policy mandates and practice innovations and model programs that address such barriers and community-identified needs. It also seeks to identify practice variations in the way APS programs serve older adults and adults with disabilities.

The results of the survey will serve to advance the field of APS and will be useful to many audiences. It will provide baseline information regarding the status of APS programs and services, and the resulting information will help states and territories compare their program characteristics with those of other states and territories. The survey will provide a context for other researchers examining APS programs. It will inform ACL's efforts to support the improvement of APS programs through activities such as innovation grants. Finally, it will inform the APS TARC team's efforts to develop resources to enhance APS programs around the country.

This survey has been developed to gather information on APS practices that is not available from other sources. As part of the National Adult Maltreatment Reporting System (NAMRS), ACL collects descriptive data on state and territory agency policies through the Agency Component of that data collection. Therefore, the proposed survey will not collect any background policy or data items. As part of the APS Program Evaluation, the APS TARC also conducted a detailed examination of state APS policies through development of individual state policy profiles. The profiles were based exclusively on extant information sources obtained without additional data requests from the states. Information on practices gathered in this survey will complement, but will not duplicate, these policy profiles.

Finally, the National Adult Protective Services Association (NAPSA) conducted a survey of State APS programs in 2012, and the National Association of State Units on Aging and Disability (NASUAD) fielded a survey in January 2018 intended to update findings from the NAPSA 2012 survey. NASUAD indicated that they intend to share the results with their members once the survey results are compiled, and indicated that they would share the results with the APS TARC. Since the survey replicates the original NAPSA survey, the questions in it are not focused on APS practice. As noted, a few topics in the original survey overlap with the proposed instrument, but the wording and focus of the few questions on similar topics are different. From this analysis, we conclude the proposed APS Practice Survey will yield vital information on APS practice not available from other sources.

Proposed Collection Efforts

The APS Practice Survey will collect state- and territory-specific practices for all aspects of APS casework practice, including staffing, intake, investigation, service planning and delivery, and quality assurance. Across these areas, the survey will collect information on practices such as community partnerships and use of assessment tools.

The APS Practice Survey will be administered online using SurveyMonkey or a similar commercial survey programming tool. The online survey will include data validation routines to minimize errors or unintentional omissions and will include appropriate skip patterns to reduce burden. Respondents will be state and territory APS agencies, including APS agencies in the District of Columbia, Puerto Rico, Guam, Northern Marianas Islands, Virgin Islands, and American Samoa. No personally identifiable information will be collected.

A pilot version of The APS Practice Survey was tested in nine (9) diverse states between July and September 2017. Following their pretest of the survey instrument, pilot respondents participated in focus groups in which they provided recommendations on data collection procedures, views on the availability of data being requested, and estimates of the burden to each state and territory for completion of the survey. It is assumed that nearly every state and territory will participate in the information collection and that time to develop a response will be similar to the experience of states during the pilot test. ACL has calculated the following burden estimates based on the results of the survey pilot test.

The proposed collection of information tool may be found at https://www.acl.gov/node/790 under “APS Evaluation.”

Estimated Program Burden

ACL estimates the annual burden associated with this collection of information as follows: 56 entities will complete the information requested one time per respondent, and it will take an average of 3.5 hours per respondent to complete the survey. This results in a total estimate of 196 burden hours.

Instrument | Number of respondents | Number of responses per respondent | Average burden hours per response | Total burden hours
APS Practice Survey | 56 | 1 | 3.5 | 196

With respect to the collection of information, ACL specifically requests comments on our burden estimates or any other aspect of this collection of information, including:

(a) Whether the proposed collection of information is necessary for the proper performance of the functions of the agency, including whether the information shall have practical utility;

(b) the accuracy of the agency's estimate of the burden of the proposed collection of information, including the validity of the methodology and assumptions used to determine burden estimates;

(c) ways to enhance the quality, utility, and clarity of the information to be collected; and

(d) ways to minimize the burden of the collection of information on respondents, including through the use of automated collection techniques, when appropriate, and other forms of information technology.

Consideration will be given to comments and suggestions submitted within 60 days of this publication.

The proposed data collection tools may be found at https://acl.gov/about-acl/public-input.

Dated: December 17, 2018.
Mary Lazare,
Principal Deputy Administrator.

[FR Doc. 2018-27902 Filed 12-21-18; 8:45 am]

BILLING CODE 4154-01-P